DEPARTMENT OF TRANSPORTATION

Federal Highway Administration

Environmental Impact Statement; Carver and Scott Counties, MN

AGENCY: Federal Highway Administration (FHWA), DOT.

ACTION: Notice of intent.

SUMMARY: The FHWA is issuing this notice to advise the public that a tier I Environmental Impact Statement (EIS) will be prepared for a proposal to improve capacity on Trunk Highway (TH) 41 between TH 169 and proposed TH 212, including a crossing of the Minnesota River, in Scott and Carver Counties, Minnesota. The east-west boundaries of the study area are between County State Aid Highway (CSAH)/TH 101 at the Chanhassen/Shakopee border and County Road 45 just west of Carver. the tier I EIS will include the analysis needed for a location decision.

FOR FURTHER INFORMATION CONTACT: Cheryl Martin, Federal Highway Administration, Galtier Plaza, 380 Jackson Street, Suite 500, St. Paul, Minnesota 55101, Telephone (651)291-6120; or Brian Isaacson, Project Manager, Minnesota Department of Transportation—Metro Division, Water's Edge Building, 1500 West County Road B-2, Roseville, Minnesota 55113, Telephone (651) 582-1659.

SUPPLEMENTARY INFORMATION: The FHWA, in cooperation with the Minnesota Department of Transportation, will prepare tier I EIS on a proposal to improve capacity on TH 41 between proposed TH 212 and TH 169, the north-south limits of the study area. The east-west boundaries of the study area are between CSAH/TH 101 at the Chanhassen/Shakopee border and County Road 45 just west of the City of Carver in Scott and Carver Counties, Minnesota. The proposed action is being considered to preserve an alignment for the construction of future highway capacity improvements, including a crossing of the Minnesota River, to address the need for improved capacity.

The tier I EIS will evaluate the social, economic, transportation and environmental impacts of alternatives, including: (1) no-build, (2) improvements to the existing TH 41 corridor, and (3) one or more new alignment alternatives for TH 41.

The tier II EIS will be prepared in approximately 15 years. At that time, design alternatives for the preferred alignment will be considered and environmental impacts and mitigation will be studied in greater detail. The construction of the preferred alternative is planned for implementation after the year 2020.

It is anticipated that the “TH41 Scoping Document/Draft Scoping Decision Document” will be published in approximately June 2003. A press release will be published to inform the public of the document's availability. Copies of the scoping document will be distributed to agencies, interested persons and libraries for review to aid in identifying issues and analyses to be contained in the tier I EIS. A 30 day comment period for review of the document will be provided to afford an opportunity for all interested persons, agencies and groups to comment on the proposed action. A public scoping meeting will also be held during the comment period. Public notice will be given for the time and place of the meeting. A tier I draft EIS will be prepared based on the outcome of the scoping process. Coordination has been initiated and will continue with appropriate Federal, State and local agencies and private organizations and citizens who have previously expressed or are known to have an interest in the proposed action. To ensure that the full range of issues related to this proposed action are addressed and all significant issues identified, comments and suggestions are invited form all interested parties. Comments or questions concerning this proposed action and the EIS should be directed to the FHWA at the address provided above.

Dated: Issued on: December 31, 2002.
(Catalog of Federal Domestic Assistance Program Number 20205, Highway Planning and Construction. The regulations implementing Executive Order 12372 regarding intergovernmental consultation on Federal programs and activities apply to this program)
Stanley M. Graczyk,
Project Development Engineer, Federal Highway Administration, St. Paul, Minnesota.

[FR Doc. 03-445 Filed 1-9-03; 8:45 am]

BILLING CODE 4910-22-M